NUCLEAR REGULATORY COMMISSION

[NRC-2022-0107]

Information Collection: NRC Form 313, “Application for Materials License” and NRC Forms 313A (RSO), 313A (AMP), 313A (ANP), 313A (AUD), 313A (AUT), and 313A (AUS)

AGENCY: Nuclear Regulatory Commission.

ACTION: Renewal of existing information collection; request for comment.

SUMMARY: The U.S. Nuclear Regulatory Commission (NRC) invites public comment on the renewal of Office of Management and Budget (OMB) approval for an existing collection of information. The information collection is entitled, NRC Form 313, “Application for Materials License” and NRC Forms 313A (RSO), 313A (AMP), 313A (ANP), 313A (AUD), 313A (AUT), and 313A (AUS).

DATES: Submit comments by October 24, 2022. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2022-0107. Address questions about Docket IDs in Regulations.gov to Stacy Schumann; telephone: 301-415-0624; email: Stacy.Schumann@nrc.gov. For technical questions, contact the individual listed in the For Further Information Contact section of this document.

• Mail comments to: David C. Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David C. Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2022-0107 when contacting the NRC about the availability of information for this action. You may obtain publicly available information related to this action by any of the following methods:

• Federal Rulemaking Website: Go to https://www.regulations.gov and search for Docket ID NRC-2022-0107.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC encourages electronic comment submission through the Federal rulemaking website (https://www.regulations.gov). Please include NRC-2022-0107 in your comment submission.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. Chapter 35), the NRC is requesting public comment on its intention to request the OMB's approval for the information collection summarized below.

1. The title of the information collection: NRC Form 313, “Application for Materials License” and NRC Forms 313A (RSO), 313A (AMP), 313A (ANP), 313A (AUD), 313A (AUT), and 313A (AUS).

2. OMB approval number: 3150-0120.

3. Type of submission: Revision.

4. The form number, if applicable: NRC Form 313, “Application for Materials License” and NRC Forms 313A (RSO), 313A (AMP), 313A (ANP), 313A (AUD), 313A (AUT), and 313A (AUS).

5. How often the collection is required or requested: There is a one-time submittal of the NRC Form 313 (which may include the NRC Form 313A series of forms) with information to receive a license. Once a specific license has been issued, there is a 15-year resubmittal of the NRC Form 313 (which may include the NRC form 313A series of forms) with information for renewal of the license. Amendment requests are submitted as needed by the licensee. There is a one-time submittal for all limited specific medical use applicants of a NRC Form 313A series form to have each new individual identified as a Radiation Safety Officer (RSO) or Associate Radiation Safety Officer (ARSO) [NRC Form 313A (RSO)], authorized medical physicist or ophthalmic physicist [NRC Form 313A (AMP)], authorized nuclear pharmacist [NRC Form 313A (ANP)], or authorized user [NRC Form 313A (AUD), NRC Form 313A (AUS), or NRC Form 313A (AUT)] or a subsequent submittal of additional information for one of these individuals to be identified with a new authorization on a limited specific medical use license. NRC Form 313A (RSO) is also used by medical broad scope licensees when identifying a new individual as an RSO, a new individual as an ARSO, adding an additional RSO authorization, or adding an additional ARSO authorization for the individual. This submittal may occur when applying for a new license, amendment, or renewal. NRC Form 313A (ANP) is also used by commercial nuclear pharmacy licensees when requesting an individual be identified for the first time as ANP. This submittal may occur when applying for a new license, amendment, or renewal.

6. Who will be required or asked to respond: All applicants requesting a license, amendment or renewal of a license for byproduct or source material.

7. The estimated number of annual responses: 12,222 (1,174 NRC licensees + 10,296 Agreement States licensees + 752 Third Party respondents).

8. The estimated number of annual respondents: 12,222 (1,174 NRC licensees + 10,296 Agreement States licensees + 752 Third Party respondents).

9. The estimated number of hours needed annually to comply with the information collection requirement or request: 49,359 (5,053 NRC licensee hours + 44,306 Agreement States licensee hours).

10. Abstract: Applicants must submit NRC Form 313, which may include the six forms in the 313A series, to obtain a specific license to possess, use, or distribute byproduct or source material. These six forms in the 313A series are: (1) NRC Form 313A (RSO), “Radiation Safety Officer or Associate Radiation Safety Officer Training, Experience and Preceptor Attestation [10 CFR 35.57, 35.50]”; (2) NRC Form 313A (AMP), “Authorized Medical Physicist or Ophthalmic Physicist, Training, Experience and Preceptor Attestation [10 CFR 35.51, 35.57(a)(3), and 35.433”; (3) NRC Form 313A (ANP), “Authorized Nuclear Pharmacist Training, Experience, and Preceptor Attestation 10 CFR 35.55”; (4) NRC Form 313A (AUD), “Authorized User Training, Experience and Preceptor Attestation (for uses defined under 35.100, 35.200, and 35.500) 10 CFR 35.57, 35.190 35.290, and 35.590”; (5) NRC Form 313A (AUT), “Authorized User Training, Experience, and Preceptor Attestation (for uses defined under 35.300) 10 CFR 35.57, 35.390, 35.392, 35.394, and 35.396”; and (6) NRC Form 313A (AUS), “Authorized User Training, Experience and Preceptor Attestation (for uses defined under 35.400 and 35.600) 10 CFR 35.57, 35.490, 35.491, and 35.690.” The NRC Form 313A series of forms requires preceptor attestations for certain individuals. The preceptor attestation is provided by a third party and not an applicant or licensee. The information is reviewed by the NRC to determine whether the applicant is qualified by training and experience, and has equipment, facilities, and procedures which are adequate to protect the public health and safety and minimize danger to life or property.

III. Specific Requests for Comments

The NRC is seeking comments that address the following questions:

1. Is the proposed collection of information necessary for the NRC to properly perform its functions? Does the information have practical utility? Please explain your response.

2. Is the estimate of the burden of the information collection accurate? Please explain your response.

3. Is there a way to enhance the quality, utility, and clarity of the information to be collected?

4. How can the burden of the information collection on respondents be minimized, including the use of automated collection techniques or other forms of information technology?

IV. Availability of Documents

The documents identified in the following table are available to interested persons through ADAMS.

Document description | ADAMS accession No.
Draft OMB Supporting Statement for NRC Form 313 | ML22117A207
NRC Form 313—Application for Materials License | ML22117A197
NRC Form 313A (AMP)—Authorized Medical Physicist or Ophthalmic Medical Physicist | ML22117A198
NRC Form 313A (RSO)—Radiation Safety Officer or Associate Radiation Safety Officer | ML22117A199
NRC Form 313A (ANP)—Authorized Nuclear Pharmacist | ML22117A200
NRC Form 313A (AUD)—Authorized User requesting authorization for diagnostic uses defined under 10 CFR 35.100, 10 CFR 35.200, or 10 CFR 35.500 | ML22117A201
NRC Form 313A (AUS)—Authorized User requesting authorization for use of sealed sources defined under 10 CFR 35.400 or 10 CFR 35.600 | ML22117A202
NRC Form 313A (AUT)—Authorized User requesting authorization for use of unsealed radioactive material for therapy defined under 10 CFR 35.300 | ML22117A203
NRC Form 313 online form | ML22202A526

Dated: August 18, 2022.
For the Nuclear Regulatory Commission.
David C. Cullison,
NRC Clearance Officer, Office of the Chief Information Officer.

[FR Doc. 2022-18184 Filed 8-23-22; 8:45 am]

BILLING CODE 7590-01-P